FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association and nonbanking companies owned by the savings and loan holding company, including the companies listed below.

The applications listed below, as well as other related filings required by the Board, are available for immediate inspection at the Federal Reserve Bank indicated. The application also will be available for inspection at the offices of the Board of Governors. Interested persons may express their views in writing on the standards enumerated in the HOLA (12 U.S.C. 1467a(e)). If the proposal also involves the acquisition of a nonbanking company, the review also includes whether the acquisition of the nonbanking company complies with the standards in section 10(c)(4)(B) of the HOLA (12 U.S.C. 1467a(c)(4)(B)). Unless otherwise noted, nonbanking activities will be conducted throughout the United States.

Unless otherwise noted, comments regarding each of these applications must be received at the Reserve Bank indicated or the offices of the Board of Governors not later than June 20, 2019.

A. Federal Reserve Bank of Cleveland (Nadine Wallman, Vice President) 1455 East Sixth Street, Cleveland, Ohio 44101-2566. Comments can also be sent electronically to Comments.applications@clev.frb.org:

1. Valley Central, MHC, and Valley Central Bancorp, Inc., both of Liberty Township, Ohio; to acquire control of American Savings Bank, Middletown, Ohio. Additionally, for Valley Central, MHC, to acquire control of the newly formed New Valley Central Bank, to be located in Liberty Township, Ohio; and for Valley Central, MHC, to transfer to its subsidiary Valley Central Bancorp, Inc., ownership of New Valley Central Bank. Under the proposal, Valley Central, MHC, would form New Valley Central Bank as an interim Ohio-chartered savings association. American Savings Bank and the applicants' existing subsidiary savings association, Valley Central Bank, Liberty Township, Ohio, would then each be merged with and into New Valley Central Bank. The surviving institution would be known thereafter as Valley Central Bank.

Board of Governors of the Federal Reserve System, May 21, 2019.
Yao-Chin Chao,
Assistant Secretary of the Board.

[FR Doc. 2019-10974 Filed 5-24-19; 8:45 am]

BILLING CODE P